DEPARTMENT OF ENERGY

Federal Energy Regulatory Commission

City of Holyoke Gas & Electric Department Project No. 2004-075-Massachusetts; Notice

January 28, 2003.

The following Commission staff were assigned to help facilitate resolution of environmental and related issues associated with development of a comprehensive settlement agreement for the Holyoke Project. The parties anticipate completing the comprehensive settlement agreement and filing an offer of settlement by May 16, 2003. These “separated staff” will take no part in the Commission's review of the offer of settlement and the comprehensive settlement agreement, or deliberations concerning the disposition of the rehearings.

Office of General Counsel: John Katz; Office of Energy Projects: Steve Kartalia, Alan Mitchnick.

Different Commission “advisory staff” will be assigned to review the offer of settlement, the comprehensive settlement agreement, and process the requests for rehearing, including providing advice to the Commission with respect to the agreement and rehearings. Separated staff and advisory staff are prohibited from communicating with one another concerning the settlement and rehearings.

Magalie R. Salas,
Secretary.

[FR Doc. 03-2387 Filed 1-31-03; 8:45 am]

BILLING CODE 6717-01-P